DEPARTMENT OF HEALTH AND HUMAN SERVICES

Centers for Disease Control and Prevention

[Program Announcement 01039]

Notice of Availability of Funds; Friendly Access and Workforce Development

A. Purpose

The Centers for Disease Control and Prevention (CDC) announces the availability of fiscal year (FY)2001 funds for a cooperative agreement program for Friendly Access and Workforce Development. CDC is committed to achieving the health promotion and disease prevention objectives of “Healthy People 2010,” a national activity to reduce morbidity and mortality and improve the quality of life. This announcement is related to focus areas of Access to Quality Health Services; Maternal, Infant, and Child Health; and Public Health Infrastructure. For the conference copy of “Healthy People 2010,” visit the internet site: http://www.health.gov/healthypeople.

The purpose of the program is to improve the quality of perinatal and early childhood health services delivery through community-based demonstration projects that incorporate, evaluation, intervention development, training, and public health leadership.

B. Eligible Applicant

Assistance will be provided only to the Lawton and Rhea Chiles Center for Healthy Mothers and Babies Friendly Access Program, University of South Florida. No other applications are solicited. The Conference Report H.R. 4577, consolidated appropriations ACT, 2001, specified these funds for Lawton and Rhea Chiles Center.

C. Availability of Funds

Approximately $2,800,000 is available in FY 2001 to fund one award. It is expected that the award will begin on or about July 15, 2001, and will be made for a 12-month budget period within a one year project period. Funding estimates may change.

Direct Assistance

You may request Federal personnel, as direct assistance, in lieu of a portion of financial assistance.

D. Where To Obtain Additional Information

Business management technical assistance may be obtained from: Van A. King, Grants Management Specialist, Grants Management Branch, Procurement and Grants Office, Centers for Disease Control and Prevention (CDC), 2920 Brandywine Road, Room 3000, Atlanta, GA 30341-4146, Telephone: (770) 488-2751, Email Address: vbk5@cdc.gov.

For program technical assistance, contact:

Deborah Wetterhall, Division of Reproductive Health, National Center for Chronic Disease Prevention and Health, Promotion (NCCDPHP), 4770 Buford Highway, NE, MS K-20, Atlanta, Georgia 30341, Telephone: (770) 488-5193, E-Mail Address: djw2@cdc.gov.

or

Joan Cioffi, Public Health Practice Program Office (PHPPO), 4770 Buford Highway, NE, MS K-36, Atlanta, Georgia 30341, Telephone: (770) 488-2480, E-Mail Address: mal7@cdc.gov.

Dated: April 17, 2001.
John L. Williams,
Director, Procurement and Grants Office, Centers for Disease Control and Prevention.

[FR Doc. 01-9925 Filed 4-20-01; 8:45 am]

BILLING CODE 4163-18-P